DEPARTMENT OF AGRICULTURE

Foreign Agricultural Service

Adjustment of Appendices Under the Dairy Tariff-Rate Quota Import Licensing Regulation; Correction

AGENCY: Foreign Agricultural Service, USDA.

ACTION: Notice; correction.

SUMMARY: The Foreign Agricultural Service (FAS) published a notice in the Federal Register on September 2, 2021, pertaining to adjustment of appendices under the Dairy Tariff-Rate Quota Import Licensing Regulation. FAS has technical corrections to that document.

FOR FURTHER INFORMATION CONTACT: Abdelsalam El-Farra, (202) 720-9439; abdelsalam.el-farra@fas.usda.gov.

SUPPLEMENTARY INFORMATION:

Correction

In the Federal Register of September 2, 2021, in FR Doc. 2021-19106 (86 FR 49289) make the following corrections:

(1) On page 49289, in the third column, in numbered paragraph 3, insert “inserting” after “(d)”, and

(2) On page 49290, in the first column, in numbered paragraph 5, delete “1,31,000” and insert “1,313,000” in lieu thereof.

Lori Tortora,
Licensing Authority.

[FR Doc. 2021-19660 Filed 9-10-21; 8:45 am]

BILLING CODE 3410-10-P